DEPARTMENT OF AGRICULTURE

Animal and Plant Health Inspection Service

[Docket No. APHIS-2012-0100]

Notice of Request for Revision to and Extension of Approval of an Information Collection; APHIS Student Outreach Program

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the Animal and Plant Health Inspection Service's Student Outreach Program.

DATES: We will consider all comments that we receive on or before March 5, 2013.

ADDRESSES: You may submit comments by either of the following methods:

• Federal eRulemaking Portal: Go to http://www.regulations.gov/#!documentDetail;D=APHIS-012-0100-0001.

• Postal Mail/Commercial Delivery: Send your comment to Docket No. APHIS-2012-0100, Regulatory Analysis and Development, PPD, APHIS, Station 3A-03.8, 4700 River Road Unit 118, Riverdale, MD 20737-1238.

Supporting documents and any comments we receive on this docket may be viewed at http://www.regulations.gov/#!docketDetail;D=APHIS-2012-0100 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on documents associated with the APHIS Student Outreach Program, contact Mr. Kenneth Johnson, Director, Office of Civil Rights, Diversity and Inclusion, Office of the Administrator, APHIS, 4700 River Road Unit 92, Riverdale, MD 20737; (202) 799-7012. For copies of more detailed information on the information collection, contact Mrs. Celeste Sickles, APHIS' Information Collection Coordinator, at (301) 851-2908.

SUPPLEMENTARY INFORMATION: Title: APHIS Student Outreach Program.

OMB Number: 0579-0362.

Type of Request: Revision to and extension of approval of an information collection.

Abstract: The Animal and Plant Health Inspection Service's (APHIS') Student Outreach Program is designed to help students learn about careers in animal science, veterinary medicine, plant pathology, and agribusiness. The program allows participants to live on a college campus and learn about agricultural science and agribusiness from university professors, practicing veterinarians, and professionals working for the U.S. Government.

The Student Outreach Program is designed to enrich students' lives while they are still in their formative years. APHIS' investment in the Student Outreach Program not only exposes students to careers in APHIS, it also gives APHIS' employees the opportunity to meet and invest in APHIS' future workforce. Students chosen to participate in the Student Outreach Program will gain experience through hands-on labs, workshops, and field trips. Students will also participate in character and team building activities and diversity workshops. Two programs currently in the Student Outreach Program are Ag-Discovery and Safeguarding Natural Heritage Program: Strengthening Navajo Youth Connections to the Land.

The Safeguarding Natural Heritage Program focuses on activities within the environs of the communities of the Navajo Nation. To participate in this program, students must submit an essay, letters of recommendation, and an APHIS Form 120, which includes the student application, parental release form, and a health history/emergency medical information form.

Ag-Discovery was established by APHIS prior to the Safeguarding Natural Heritage Program. To participate in this program, students must submit an essay, letters of recommendation, and a completed APHIS Form 119, which includes the student application, parental release form, student contract, and letter of recommendation template. These information collection activities were approved under the Office of Management and Budget (OMB) control number 0579-0362. Including the information collection activities associated with the Safeguarding Natural Heritage Program will add approximately 100 respondents and 200 total annual burden hours.

We are asking OMB to approve our use of these information collection activities, as revised, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 5.636363 hours per response.

Respondents: Full-time students (12 to 17 years of age, depending on the program).

Estimated annual number of respondents: 1,100.

Estimated annual number of responses per respondent: 1.

Estimated annual number of responses: 1,100.

Estimated total annual burden on respondents: 6,200 hours. (Due to averaging, the total annual burden hours may not equal the product of the annual number of responses multiplied by the reporting burden per response.)

All responses to this notice will be summarized and included in the request for OMB approval. All comments will also become a matter of public record.

Done in Washington, DC, this 13th day of December 2012.
Kevin Shea,
Acting Administrator, Animal and Plant Health Inspection Service.

[FR Doc. 2012-31567 Filed 1-3-13; 8:45 am]

BILLING CODE 3410-34-P